DEPARTMENT OF HEALTH AND HUMAN SERVICES

Centers for Disease Control and Prevention

[30-Day-10-0745]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Colorectal Cancer Screening Program (OMB No. 0920-0745 7/31/2010)—Revision—Division of Cancer Prevention and Control (DCPC), National Center for Chronic Disease Prevention and Health Promotion (NCCDPHP), Centers for Disease Control and Prevention (CDC).

Background and Brief Description

Colorectal Cancer (CRC) is the second leading cause of cancer-related deaths in the United States, following lung cancer. Based on scientific evidence which indicates that regular screening is effective in reducing CRC incidence and mortality, regular CRC screening is now recommended for average-risk persons.

In 2005, CDC established a demonstration program to screen low-income individuals 50 years of age and older who have no health insurance or inadequate health insurance for CRC. The five demonstration sites have reported information to CDC including de-identified, patient-level demographic, screening, diagnostic, treatment, outcome and cost reimbursement data (Colorectal Cancer Screening Demonstration Program, OMB No. 0920-0745, exp. 7/31/2010).

CDC requests OMB approval to continue the information collection for three years, with changes. First, the number of funded sites will increase from 5 to 26, and the term “Demonstration” will be deleted from the title. Second, there will be a reduction in the burden per respondent associated with the collection of clinical information. Reporting forms for medical complications and medically ineligible clients will be discontinued, the level of detail collected from endoscopy and pathology reports will be reduced, and the reporting form for colorectal cancer clinical data elements (CCDE) will be streamlined. As a result, the reporting burden per CCDE form will be similar regardless of primary test provided. Third, the collection of patient-level reimbursement cost data will be discontinued and will be replaced by the collection of program-level activity-based cost data using a Cost Assessment Tool (CAT). The information to be collected through the CAT will allow CDC to compare activity-based costs across multiple sites and programs, and will provide a more effective means of monitoring and improving the performance and cost-effectiveness of the CRC screening program.

Each program site will screen an estimated 375 patients per year. De-identified CCDE information concerning approximately 187 new screening records will be transmitted to CDC electronically twice per year. Information collected through the Cost Assessment Tool will be transmitted electronically to CDC once per year. Reporting is required for all sites funded through the CRC screening program.

The goals of the expanded CRC screening program are to increase population-based screening and to reduce health disparities in CRC screening, incidence and mortality. The program will continue to provide services to low-income individuals age 50 and older with inadequate or no health insurance for CRC.

The total estimated annualized burden hours are 3,010. The increase in the number of funded sites and the proposed changes will result in an overall increase in burden to respondents. There are no costs to respondents other than their time.

Estimated Annualized Burden Hours
Type of respondents | Form type | No. of respondents | No. of responses per respondent | Average burden per response (in hours)
Colorectal Cancer Screening Programs | Clinical Data Elements | 26 | 375 | 15/60
| Cost Assessment Tool | 26 | 1 | 22

Dated: March 31, 2010.
Maryam I. Daneshvar,
Acting Reports Clearance Officer, Centers for Disease Control and Prevention.

[FR Doc. 2010-7916 Filed 4-7-10; 8:45 am]

BILLING CODE 4163-18-P